DEPARTMENT OF THE INTERIOR

Bureau of Land Management

[LLNV912000.L12100000.PH0000 LXSS006F0000 MO# 4500086714 ]

Mojave-Southern Great Basin Resource Advisory Council Call for Nominees To Complete Elected Official Term

AGENCY: Bureau of Land Management, Interior.

ACTION: Notice.

SUMMARY: The purpose of this notice is to open the request for public nominations for the Elected Official representative on the Mojave-Southern Great Basin Resource Advisory Council (RAC). The selected individual would complete the remaining two years of the current three-year term that concludes on May 6, 2017. The RAC provides advice and recommendations to the BLM on land use planning and management of the National System of Public Lands within its geographic area, which approximately coincides with the Southern Nevada Basin and Range, and Sonoran Basin and Range major land resource area in Esmeralda, Nye, Lincoln, and Clark Counties, in Nevada. The BLM will accept public nominations for 30 days after the publication of this notice.

DATES: All nominations must be received no later than December 28, 2015.

ADDRESSES: See SUPPLEMENTARY INFORMATION for the address of the BLM Office accepting nominations.

FOR FURTHER INFORMATION CONTACT: Chris Hanefeld, Ely District Office, BLM, 702 North Industrial Way, Ely, NV 89301; 775-289-1842 or chanefled@blm.gov.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784.

Individuals may nominate themselves or others. Nominees must be residents of the State in which the RAC has jurisdiction. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils.

The following must accompany all nominations for the RAC:

—Letters of reference from represented interests or organizations;

—A completed Resource Advisory Council application; and

—Any other information that addresses the nominee's qualifications.

Simultaneous with this notice, the BLM will issue a press release providing additional information for submitting nominations. Nominations and completed applications should be sent to Chris Hanefeld, Ely District Office, BLM, 702 North Industrial Way, Ely, NV 89301, 775-289-1842.

(Authority: 43 CFR 1784.4-1)

Tim Smith,
District Manager, Southern Nevada District, Designated Federal Officer, Mojave-Southern Great Basin RAC.

[FR Doc. 2015-30009 Filed 11-24-15; 8:45 am]

BILLING CODE 4310-84-P